DEPARTMENT OF COMMERCE

International Trade Administration

[C-570-955]

Certain Magnesia Carbon Bricks From the People's Republic of China: Rescission of Countervailing Duty Administrative Review; 2015

AGENCY: Enforcement and Compliance, International Trade Administration, Commerce.

SUMMARY: The Department of Commerce (the Department) is rescinding the administrative review of the countervailing duty (CVD) order on certain magnesia carbon bricks (MC Bricks) from the People's Republic of China (PRC) for the period January 1, 2015, through December 31, 2015.

DATES: Effective June 6, 2017.

FOR FURTHER INFORMATION CONTACT: Gene H. Calvert, AD/CVD Operations, Office VII, Enforcement and Compliance, International Trade Administration, U.S. Department of Commerce, 1401 Constitution Avenue NW., Washington, DC 20230; telephone (202) 482-3586.

SUPPLEMENTARY INFORMATION:

Background

On November 9, 2016, based on a timely request for review by the Magnesia Carbon Bricks Fair Trade Committee (Fair Trade Committee),¹ the Department of Commerce (the Department) published in the Federal Register a notice of initiation of an administrative review of the CVD order on MC Bricks from the PRC with respect to 18 companies for the period of review (POR) January 1, 2015, through December 31, 2015.² No other party requested an administrative review.

¹ See Letter to the Secretary from the Fair Trade Committee, “Certain Magnesia Carbon Bricks from the People's Republic of China: Request for Administrative Review,” (September 30, 2016). The Fair Trade Committee is an ad hoc association comprised of the following U.S. producers of magnesia carbon bricks: Resco Products, Inc.; Magnesita Refractories Company; and HarbisonWalker International.

² See Initiation of Antidumping and Countervailing Duty Administrative Reviews, 81 FR 78778 (November 9, 2016) (November 2016 Initiation Notice); see also Initiation of Antidumping and Countervailing Duty Administrative Reviews, 82 FR 4294 (January 13, 2017), which corrected the misspelling of certain company names in the November 2016 Initiation Notice.

Rescission of Review

Pursuant to 19 CFR 351.213(d)(1), the Department will rescind an administrative review, in whole or in part, if the party that requested the review withdraws its request within 90 days of the publication of the notice of initiation of the requested review. In this case, the Fair Trade Committee timely withdrew its request for review within the 90-day deadline, and no other party requested an administrative review of the CVD order. Therefore, in response to the timely withdrawal of the request for review, and in accordance with 19 CFR 351.213(d)(1), we are rescinding the administrative review of the CVD order on MC Bricks from the PRC for the period January 1, 2015, through December 31, 2015, in its entirety.

Assessment

The Department will instruct CBP to assess CVD duties on all appropriate entries. Because this administrative review is being rescinded in its entirety, the entries to which this administrative review pertain shall be assessed CVD duties that are equal to the cash deposits of estimated CVD duties required at the time of entry, or withdrawal from warehouse, for consumption, in accordance with 19 CFR 351.212(c)(1)(i). The Department intends to issue appropriate assessment instructions to CBP 15 days after the publication of this notice in the Federal Register.

Notifications

This notice serves as a final reminder to parties subject to administrative protective order (APO) of their responsibility concerning the return or destruction of proprietary information disclosed under APO, in accordance with 19 CFR 351.305(a)(3). Timely written notification of the return or destruction of APO materials or the conversion to judicial protective order is hereby requested. Failure to comply with the regulations and the terms of an APO is a sanctionable violation.

This notice is published in accordance with section 751 of the Act and 19 CFR 351.213(d)(4).

Dated: May 31, 2017.
Gary Taverman,
Deputy Assistant Secretary for Antidumping and Countervailing Duty Operations.

[FR Doc. 2017-11674 Filed 6-5-17; 8:45 am]

BILLING CODE 3510-DS-P